DEPARTMENT OF ENERGY

Federal Energy Regulatory Commission

Combined Notice of Filings #1

May 1, 2006.

Take notice that the Commission received the following electric rate filings:

Docket Numbers: ER03-170-003.

Applicants: Covanta Essex Company.

Description: Covanta Essex Co. submits its triennial market power update.

Filed Date: 04/18/2006.

Accession Number: 20060426-0248.

Comment Date: 5 p.m. eastern time on Tuesday, May 09, 2006.

Docket Numbers: ER03-438-004.

Applicants: ManChief Power Company LLC.

Description: Manchief Power, LLC submits its triennial market-based rate update pursuant to FERC's 4/18/03 Letter Order.

Filed Date: 04/18/2006.

Accession Number: 20060426-0249.

Comment Date: 5 p.m. eastern time on Tuesday, May 09, 2006.

Docket Numbers: ER03-774-002.

Applicants: Eagle Energy Partners I, L.P.

Description: Eagle Energy Partners I, LP submits of a change in status reflecting a departure from the characteristics FERC relied upon in granting Eagle Energy authorization to sell wholesale power at market-based rates.

Filed Date: 04/20/2006.

Accession Number: 20060428-0121.

Comment Date: 5 p.m. eastern time on Thursday, May 11, 2006.

Docket Numbers: ER03-1312-010.

Applicants: Midwest Independent Transmission System Operator, Inc.

Description: Midwest Independent Transmission System Operator Inc. submits its proposed revisions to Schedule 20 of its Open Access Transmission and Energy Market Tariff, FERC Electric Tariff Revised Volume 1.

Filed Date: 04/20/2006.

Accession Number: 20060426-0237.

Comment Date: 5 p.m. eastern time on Thursday, May 11, 2006.

Docket Numbers: ER05-1420-001.

Applicants: Lehman Brothers Commodity Services Inc.

Description: Lehman Brothers Commodity Services Inc. informs FERC of a change in status reflecting a departure from the characteristics that FERC relied upon granting authorization to sell wholesale power.

Filed Date: 04/20/2006.

Accession Number: 20060426-0238.

Comment Date: 5 p.m. eastern time on Thursday, May 11, 2006.

Docket Numbers: ER05-6-054; EL04-135-056; EL02-111-074; EL03-212-070.

Applicants: PJM Interconnection LLC; PJM Transmission Owners.

Description: PJM Interconnection LLC and the PJM Transmission Owners jointly submit proposed revisions to the Joint Operating Agreement with Midwest Independent Transmission System Operator Inc.

Filed Date: 04/20/2006.

Accession Number: 20060426-0236.

Comment Date: 5 p.m. eastern time on Thursday, May 11, 2006.

Docket Numbers: ER05-6-055; EL04-135-057; EL02-111-075; EL03-212-071.

Applicants: Midwest Independent Transmission System Operator, Inc.; Midwest ISO Transmission Owners; Midwest Stand-Alone Transmission Companies.

Description: Midwest Independent Transmission System Operator Inc. et al. jointly submit proposed revisions to the Joint Operating Agreement with PJM Interconnection LLC.

Filed Date: 04/20/2006.

Accession Number: 20060426-0235.

Comment Date: 5 p.m. eastern time on Thursday, May 11, 2006.

Docket Numbers: ER06-291-002; EL06-57-001.

Applicants: New York Independent System Operator, Inc.

Description: New York Independent System Operator, Inc. submits a compliance filing pursuant to the Commission's 4/3/06 Order.

Filed Date: 04/18/2006.

Accession Number: 20060426-0247.

Comment Date: 5 p.m. eastern time on Tuesday, May 09, 2006.

Docket Numbers: ER06-557-002.

Applicants: EL Paso Electric Company.

Description: El Paso Electric Co. submits its responses to FERC's 3/23/06 request for additional information.

Filed Date: 04/21/2006.

Accession Number: 20060426-0261.

Comment Date: 5 p.m. eastern time on Friday, May 12, 2006.

Docket Numbers: ER06-713-001.

Applicants: Weyerhaeuser Company.

Description: Weyerhaeuser Company submits its amended petition for market based rate authority, acceptance of initial rate schedule, waivers and blanket authority, etc.

Filed Date: 04/20/2006.

Accession Number: 20060426-0229.

Comment Date: 5 p.m. eastern time on Thursday, May 11, 2006.

Docket Numbers: ER06-761-001.

Applicants: Rumford Paper Company.

Description: Rumford Paper Company submits an Amended Petition for Market Based Rate Authority Acceptance of Initial Rate Schedule, Waivers and Blanket Authority.

Filed Date: 04/20/2006.

Accession Number: 20060426-0225.

Comment Date: 5 p.m. eastern time on Thursday, May 11, 2006.

Docket Numbers: ER06-873-000.

Applicants: Southern California Edison Company.

Description: Southern California Edison Co submits a Letter Agreement with Riverside Public Utilities.

Filed Date: 04/18/2006.

Accession Number: 20060426-0259.

Comment Date: 5 p.m. eastern time on Tuesday, May 09, 2006.

Docket Numbers: ER06-875-000.

Applicants: Southern California Edison Company.

Description: Southern California Edison Co submits an amended Service Agreement for Wholesale Distribution Service with the City of Banning, CA.

Filed Date: 04/20/2006.

Accession Number: 20060426-0232.

Comment Date: 5 p.m. eastern time on Thursday, May 11, 2006.

Docket Numbers: ER06-876-000.

Applicants: Louisville Gas & Electric Company; Kentucky Utilities Company.

Description: Louisville Gas and Electric Co and Kentucky Utilities Co submit an Assignment and Assumption Agreement with Indiana Municipal Power Agency and Illinois Municipal Electric Agency.

Filed Date: 04/20/2006.

Accession Number: 20060426-0226.

Comment Date: 5 p.m. eastern time on Thursday, May 11, 2006.

Docket Numbers: ER06-878-000.

Applicants: MMC Chula Vista LLC.

Description: MMC Chula Vista LLC submits its application for order accepting initial market-based rate schedule, waiving regulations and granting blanket approvals.

Filed Date: 04/20/2006.

Accession Number: 20060426-0227.

Comment Date: 5 p.m. eastern time on Thursday, May 11, 2006.

Docket Numbers: ER06-879-000.

Applicants: MMC Escondido LLC.

Description: MMC Escondido LLC submits its application for order accepting initial market-based rate schedule, waiving regulations and granting blanket approvals.

Filed Date: 04/20/2006.

Accession Number: 20060426-0228.

Comment Date: 5 p.m. eastern time on Thursday, May 11, 2006.

Docket Numbers: ER06-881-000.

Applicants: Midwest Independent Transmission System.

Description: Midwest Independent Transmission System Operator, Inc submits an unexecuted Large Generator Interconnection Agreement with Power Partners Midwest, LLC et al.

Filed Date: 04/21/2006.

Accession Number: 20060426-0306.

Comment Date: 5 p.m. eastern time on Friday, May 12, 2006.

Docket Numbers: ER06-882-000.

Applicants: Bayside Power L.P.

Description: Bayside Power, LP submits its application for acceptance of FERC Electric Tariff, Original Volume 1 under which Bayside will engage in wholesale electric power & energy transactions in ISO New England.

Filed Date: 04/17/2006.

Accession Number: 20060426-0272.

Comment Date: 5 p.m. eastern time on Monday, May 08, 2006.

Docket Numbers: ER94-24-036.

Applicants: Enron Power Marketing, Inc.

Description: Enron Power Marketing, Inc submits a notice of a change in status pursuant to Order 652.

Filed Date: 04/18/2006.

Accession Number: 20060426-0250.

Comment Date: 5 p.m. eastern time on Tuesday, May 09, 2006.

Docket Numbers: ER96-719-013; ER99-2156-009; ER97-2801-011.

Applicants: MidAmerican Energy Company; Cordova Energy Company, LLC; PacifiCorp.

Description: MidAmerican Energy Co et al. submit their notice of change in status regarding the transfer of ownership of PacifiCorp from PacifiCorp Holdings, Inc etc.

Filed Date: 04/20/2006.

Accession Number: 20060427-0083.

Comment Date: 5 p.m. eastern time on Thursday, May 11, 2006.

Docket Numbers: ER98-13-016.

Applicants: Enron Energy Services, Inc.

Description: Enron Energy Services Inc submits a notice of a change in status, pursuant to Order 652.

Filed Date: 04/18/2006.

Accession Number: 20060426-0258.

Comment Date: 5 p.m. eastern time on Tuesday, May 09, 2006.

Docket Numbers: ER98-511-007; ER97-4345-019; EL05-107-000

Applicants: Oklahoma Gas and Electric Company; OGE Energy Resources, Inc.

Description: Oklahoma Gas and Electric Co. and OGE Energy Resources, Inc. submit revised versions of their respective market-based rate tariffs as well as cost-based power sales tariffs for sales etc pursuant to FERC's 3/21/06 order.

Filed Date: 04/20/2006.

Accession Number: 20060426-0234.

Comment Date: 5 p.m. eastern time on Thursday, May 11, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-7004 Filed 5-8-06; 8:45 am]

BILLING CODE 6717-01-P